DEPARTMENT OF TRANSPORTATION

Federal Aviation Administration

14 CFR Part 39

[Docket No. FAA-2024-2321; Project Identifier MCAI-2024-00126-A; Amendment 39-22928; AD 2025-01-04]

RIN 2120-AA64

Airworthiness Directives; DAHER AEROSPACE (Type Certificate Previously Held by SOCATA) Airplanes

AGENCY: Federal Aviation Administration (FAA), DOT.

ACTION: Final rule.

SUMMARY: The FAA is adopting a new airworthiness directive (AD) for certain DAHER AEROSPACE (DAHER) Model TBM 700 airplanes. This AD was prompted by reports of wear of the inner flap actuator drive nut. This AD requires cleaning and lubricating the internal actuator rods, measuring the play between the drive nuts and the internal actuator rods, and if any play is found, replacing the drive nuts. This AD also allows replacing the drive nuts with certain other design drive nuts as terminating action for the requirements. The FAA is issuing this AD to address the unsafe condition on these products.

DATES: This AD is effective March 11, 2025.

The Director of the Federal Register approved the incorporation by reference of a certain publication listed in this AD as of March 11, 2025.

ADDRESSES:

AD Docket: You may examine the AD docket at regulations.gov under Docket No. FAA-2024-2321; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Daher Aerospace material identified in this AD, contact DAHER, Customer Support, Airplane Business Unit, Tarbes Cedex 9, France; phone: (833) 826-2273; email: tbmcare@daher.com; website: daher.com.

• You may view this material at the FAA, Airworthiness Products Section, Operational Safety Branch, 901 Locust, Kansas City, MO 64106. For information on the availability of this material at the FAA, call (817) 222-5110. It is also available at regulations.gov under Docket No. FAA-2024-2321.

FOR FURTHER INFORMATION CONTACT: Fred Guerin, Aviation Safety Engineer, FAA, 1600 Stewart Avenue, Suite 410, Westbury, NY 11590; phone: (206) 231-2346; email: fred.guerin@faa.gov.

SUPPLEMENTARY INFORMATION:

Background

The FAA issued a notice of proposed rulemaking (NPRM) to amend 14 CFR part 39 by adding an AD that would apply to certain DAHER Model TBM 700 airplanes. The NPRM published in the Federal Register on September 30, 2024 (89 FR 79485). The NPRM was prompted by AD 2013-0104R3, dated February 20, 2024, issued by the European Union Aviation Safety Agency (EASA), which is the Technical Agent for the Member States of the European Union (EASA AD 2013-0104R3) (also referred to as the MCAI). The MCAI states that wear of the inner flap actuator drive nut was detected, which could result in improper play between the actuator threaded rod and the drive nut with potential loss of flap control and consequent reduced or loss of control of the airplane.

In the NPRM, the FAA proposed to require cleaning and lubricating the internal actuator rods, measuring the play between the drive nuts and the internal actuator rods, and if any play was found, replacing the drive nuts. The proposed AD also allowed replacing the drive nuts with certain other design drive nuts as terminating action for the proposed requirements.

You may examine the MCAI in the AD docket at regulations.gov under Docket No. FAA-2024-2321.

Discussion of Final Airworthiness Directive

Comments

The FAA received no comments on the NPRM or on the determination of the costs to the public.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for minor editorial changes, this AD is adopted as proposed in the NPRM.

Material Incorporated by Reference Under 1 CFR Part 51

The FAA reviewed Daher Aerospace Service Bulletin SB 70-118 Revision 3, dated December 2023. This material specifies procedures for cleaning and lubricating the internal actuator rods, measuring the play between the drive nut and the internal actuator rods, and replacing the drive nut.

This material is reasonably available because the interested parties have access to it through their normal course of business or by the means identified in the ADDRESSES section.

Costs of Compliance

The FAA estimates that this AD will affect 807 airplanes of U.S. registry.

The FAA estimates the following costs to comply with this AD:

Estimated Costs
Action | Labor cost | Parts cost | Cost per product | Cost on U.S. operators
Clean and lubricate left-hand (LH) and right-hand (RH) internal actuator rods | 1 work-hour × $85 per hour = $85, per cleaning and lubricating cycle. | $0 | $85 | $68,595 per cleaning and lubricating cycle.
Measure the play for the LH and RH drive nuts | 1 work-hour × $85 per hour = $85, per measurement cycle. | 0 | 85 per measurement cycle. | 68,595 per measurement cycle.

If, during any measurement for play, no discrepancy is found, operators have the option to replace the LH and RH drive nuts. If, during any measuring for play, any discrepancy is found, the LH and RH drive nuts must be replaced. Replacing the LH and RH drive nuts would be terminating action for the repetitive cleaning, lubricating, and measuring play. The FAA estimates the following costs for replacing the LH and RH drive nuts:

On-Condition Costs
Action | Labor cost | Parts cost | Cost per product
Replace drive nuts | 4 work-hours × $85 per hour = $340 | $200 | $540

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-01-04 DAHER AEROSPACE (Type Certificate Previously Held by SOCATA): Amendment 39-22928; Docket No. FAA-2024-2321; Project Identifier MCAI-2024-00126-A.

(a) Effective Date

This airworthiness directive (AD) is effective March 11, 2025.

(b) Affected ADs

None.

(c) Applicability

This AD applies to DAHER AEROSPACE (type certificate previously held by SOCATA) (DAHER) Model TBM 700 airplanes, all serial numbers, certificated in any category, except those with DAHER Modification (MOD) 70-0777-27 installed during production.

(d) Subject

Joint Aircraft System Component (JASC) Code 2750, TE Flap Control System; 2752, TE Flap Actuator.

(e) Unsafe Condition

This AD was prompted by reports of wear of the inner flap actuator drive nut. The FAA is issuing this AD to prevent wear of the drive nut threading on the internal actuator flaps. The unsafe condition, if not addressed, could result in improper play between the actuator threaded rod and the drive nut, which could result in loss of flap control and consequent reduced or loss of control of the airplane.

(f) Compliance

Comply with this AD within the compliance times specified, unless already done.

(g) Required Actions

(1) Clean and lubricate the left-hand (LH) and right-hand (RH) internal actuator rods in accordance with Paragraph C. in the Description of Accomplishment Instructions of Daher Aerospace Service Bulletin SB 70-118 Revision 3, dated December 2023 (Daher SB 70-118) within the compliance times identified in paragraph (g)(1)(i) or (ii) of this AD, whichever occurs later.

(i) Before the accumulation of 400 hours time-in-service (TIS) or 12 months, whichever occurs first, since the first installation of a LH and RH inner flap actuator, and thereafter at intervals not to exceed 400 hours TIS or 12 months, whichever occurs first.

(ii) Within 10 hours TIS after the effective date of this AD and thereafter at intervals not to exceed 400 hours TIS or 12 months, whichever occurs first.

(2) Within the compliance time identified in paragraph (g)(2)(i) or (ii) of this AD, whichever occurs later, and thereafter, at intervals not to exceed 400 hours TIS or 12 months, whichever occurs first, for each inner flap actuator, measure the play between the drive nut and the internal actuator rod in accordance with Section A, Paragraphs (1) through (9), in the Description of Accomplishment Instructions of Daher SB 70-118. Where Section A, Paragraph (3), in the Description of Accomplishment Instructions of Daher SB 70-118 specifies “With the help of a second operator” this AD requires this action be performed by persons authorized under 14 CFR 43.3.

(i) 3,000 hours TIS since first installation of the inner flap actuator on your airplane.

(ii) 400 hours TIS or 12 months, whichever occurs first since the last play measurement accomplished for that inner flap actuator in accordance with Section A, Paragraphs (1) through (9), in the Description of Accomplishment Instructions of Daher SB 70-118.

(3) If, during any measurement required by paragraph (g)(2) of this AD, any play is found, as identified in Section A, Paragraphs (8)(b) and (9)(b), of the Description of Accomplishment Instructions, Daher SB 70-118, before further flight, accomplish the applicable corrective actions in accordance with Section A, Paragraphs (10) through (15) and (17), and Section C, Paragraph (1), in the Description of Accomplishment Instructions of Daher SB 70-118. Where Section B, Paragraph (4), in the Description of Accomplishment Instructions of Daher SB 70-118, specifies to discard an old drive nut, this AD requires removing the old drive nut from service.

(4) If, during any measurement as required by paragraph (g)(2) of this AD, no play is found, as identified in Section A, Paragraphs (8)(a) and (9)(a), in the Description of Accomplishment Instructions of Daher SB 70-118, before further flight, accomplish the actions in accordance with Section A, Paragraphs (13) through (15) and (17), and Section C, Paragraph (1), in the Description of Accomplishment Instructions of Daher SB 70-118.

(h) Terminating Action

Replacing the drive nuts in accordance with Section B, Paragraphs (1) through (10), in the Description of Accomplishment Instructions of Daher SB 70-118, constitutes terminating action for all of the actions required by paragraphs (g)(1) and (2) of this AD, provided, after that replacement, no LH flap actuator having part number (P/N) 1-5295-B or RH flap actuator having P/N 2-5295-B is installed. Where Section B, Paragraph (4) in the Description of Accomplishment Instructions of Daher SB 70-118, specifies to discard an old drive nut, this AD requires removing the old drive nut from service.

(i) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (j) of this AD or email to: AMOC@faa.gov. If mailing information, also submit information by email. Before using any approved AMOC, notify your appropriate principal inspector, or lacking a principal inspector, the manager of the local Flight Standards District Office/certificate holding district office.

(j) Additional Information

For more information about this AD, contact Fred Guerin, Aviation Safety Engineer, FAA, 1600 Stewart Avenue, Suite 410, Westbury, NY 11590; phone: (206) 231-2346; email: fred.guerin@faa.gov.

(k) Material Incorporated by Reference

(1) The Director of the Federal Register approved the incorporation by reference of the material listed in this paragraph under 5 U.S.C. 552(a) and 1 CFR part 51.

(2) You must use this material as applicable to do the actions required by this AD, unless the AD specifies otherwise.

(i) Daher Aerospace Service Bulletin SB 70-118, Revision 3, dated December 2023.

(ii) [Reserved]

(3) For Daher Aerospace material identified in this AD, contact DAHER, Customer Support, Airplane Business Unit, Tarbes Cedex 9, France; phone: (833) 826-2273; email: tbmcare@daher.com; website: daher.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on January 6, 2025.
Steven W. Thompson,
Acting Deputy Director, Compliance & Airworthiness Division, Aircraft Certification Service.

[FR Doc. 2025-02188 Filed 2-3-25; 8:45 am]

BILLING CODE 4910-13-P